DEPARTMENT OF HOUSING AND URBAN DEVELOPMENT

[Docket No. FR-6083-N-05]

Notice of a Federal Advisory Committee Meeting, Manufactured Housing Consensus Committee

AGENCY: Office of the Assistant Secretary for Housing—Federal Housing Commissioner, Department of Housing and Urban Development (HUD).

ACTION: Notice of a Federal advisory committee meeting.

SUMMARY: This notice sets forth the schedule and proposed agenda for a teleconference meeting of the MHCC Regulatory Enforcement Subcommittee. This meeting is open to the public. The agenda provides an opportunity for citizens to comment on the business before the MHCC.

DATES: The meeting will be held on January 14, 2020, 10:00 a.m. to 4:00 p.m. Eastern Daylight Time (EDT). The teleconference number is U.S. toll-free: 866-628-5137 and Participant Code: 4325435. To access the webinar, use the following link: https://zoom.us/j/739636113.

FOR FURTHER INFORMATION CONTACT: Teresa B. Payne, Administrator, Office of Manufactured Housing Programs, Department of Housing and Urban Development, 451 7th Street SW, Room 9166, Washington, DC 20410, telephone 202-708-6423 (this is not a toll-free number). Persons who have difficulty hearing or speaking may access this number via TTY by calling the Federal Relay at 800-877-8339 (this is a toll-free number).

SUPPLEMENTARY INFORMATION:

Background

Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment

Citizens wishing to make comments on the business of the MHCC must register by contacting Home Innovation Research Labs; Attention: Kevin Kauffman, 400 Prince Georges Blvd., Upper Marlboro, MD 20774, or email to mhcc@homeinnovation.com or call 1-888-602-4663. With advance registration, members of the public will have an opportunity to provide oral or written comments relative to agenda topics for the Subcommittee's consideration. Written comments must be provided no later than January 6, 2020 to mhcc@homeinnovation.com. Please note, written statements submitted will not be read during the meeting but will be provided to the Subcommittee members prior to the meeting.

The MHCC will also provide an opportunity for oral public comments on specific matters before the Regulatory Enforcement Subcommittee. The total amount of time for oral comments will be 15 minutes with each commenter limited to two minutes, if necessary, to ensure pertinent Subcommittee business is completed. The Subcommittee will not respond to individual written or oral statements; however, it will take all public comments into account in its deliberations. The MHCC strives to accommodate citizen comments to the extent possible within the time constraints of the meeting agenda.

Tentative Agenda

Tuesday, January 14, 2020—10 a.m. to 4 p.m. EDT

I. Call to Order and Roll Call

II. Opening Remarks—Subcommittee Chair & Designated Federal Officer (DFO)

III. Approval of minutes from October 29-31, 2019 Regulatory Enforcement Subcommittee Meeting

IV. Public Comment Period—15 minutes

V. Assigned Deregulation Comments and Proposed Changes Review Proposed Changes Log:

• LOG 195 Deregulation Comment Categories:

• On-Site Completion—DRC 4

VI. Lunch from 12:30 p.m. to 1:30 p.m.

VII. Assigned Deregulation Comments and Proposed Change Review Continued

VIII . Public Comment Period—15 minutes

IX. Wrap Up—DFO & Administering Organization

X. Adjourn

Dated: December 6, 2019.
John L. Garvin,
General Deputy Assistant Secretary for Housing.

[FR Doc. 2019-26912 Filed 12-12-19; 8:45 am]

BILLING CODE 4210-67-P